DEPARTMENT OF AGRICULTURE

Animal and Plant Health Inspection Service

7 CFR Parts 300, 301, 318, 319, and 353

[Docket No. 01-050-2]

Steam Treatment of Golden Nematode-Infested Farm Equipment, Construction Equipment, and Containers

AGENCY: Animal and Plant Health Inspection Service, USDA.

ACTION: Direct final rule; confirmation of effective date.

SUMMARY: On February 25, 2002, we published a direct final rule in the Federal Register (See 67 FR 8461-8466.) The direct final rule notified the public of our intention to amend the Plant Protection and Quarantine Treatment Manual, which is incorporated by reference into the Code of Federal Regulations, to allow containers, construction equipment without cabs, and farm equipment without cabs used in golden nematode-infested areas to be treated with steam heat before being moved interstate from any regulated area. We did not receive any written adverse comments or written notice of intent to submit adverse comments in response to the direct final rule.

EFFECTIVE DATE: The effective date of the direct final rule is confirmed as April 26, 2002.

FOR FURTHER INFORMATION CONTACT: Dr. Vedpal Malik, Agriculturist, Invasive Species and Pest Management, PPQ, APHIS, 4700 River Road Unit 39, Riverdale, MD 20737-1231; (301) 734-6774.

Authority: 7 U.S.C. 166, 450, 7701-7772; 21 U.S.C. 136 and 136a; 7 CFR 2.22, 2.80, and 371.3.

Done in Washington, DC, this 11th day of April 2002.
W. Ron DeHaven,
Acting Administrator, Animal and Plant Health Inspection Service.

[FR Doc. 02-9211 Filed 4-15-02; 8:45 am]

BILLING CODE 3410-34-U